ENVIRONMENTAL PROTECTION AGENCY

[EPA-HQ-OECA-2014-0061; FRL-9985-59-OEI]

Information Collection Request Submitted to OMB for Review and Approval; Comment Request; NESHAP for Chemical Recovery Combustion Sources at Kraft, Soda, Sulfite, and Stand-Alone Semichemical Pulp Mill (Renewal)

AGENCY: Environmental Protection Agency (EPA).

ACTION: Notice.

SUMMARY: The Environmental Protection Agency (EPA) has submitted an information collection request (ICR), NESHAP for Chemical Recovery Combustion Sources at Kraft, Soda, Sulfite, and Stand-Alone Semichemical Pulp Mill (EPA ICR Number 1805.10, OMB Control Number 2060-0377), to the Office of Management and Budget (OMB) for review and approval in accordance with the Paperwork Reduction Act. This is a request for approval of a new collection. Public comments were previously requested via the Federal Register on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 29, 2018.

ADDRESSES: Submit your comments, referencing Docket ID Number EPA-HQ-OECA-2014-0061, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

The EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about the EPA's public docket, visit: http://www.epa.gov/dockets.

Abstract: The National Emission Standards for Hazardous Air Pollutants (NESHAP) for Chemical Recovery Combustion Sources at Kraft, Soda, Sulfite, and Stand-Alone Semichemical Pulp Mills apply to new and existing chemical recovery combustion sources at kraft, soda, sulfite, and stand-alone semichemical pulp mills, for which the chemical recovery combustion sources emit greater than or equal to 10 tons per year (tpy) of any one hazardous air pollutant (HAP) or greater than or equal to 25 tpy of any combination of HAPs. In general, all NESHAP standards require initial notifications, performance tests, and periodic reports by the owners/operators of the affected facilities. They are also required to maintain records of any failures to meet applicable standards, or any period during which the monitoring system is inoperative. These notifications, reports, and records are essential in determining compliance, and are required of all affected facilities subject to 40 CFR part 63, subpart MM.

Form Numbers: None.

Respondents/affected entities: Chemical recovery combustion sources at kraft, soda, sulfite, and stand-alone semichemical pulp mills.

Respondent's obligation to respond: Mandatory (40 CFR part 63, subpart MM).

Estimated number of respondents: 107 (total).

Frequency of response: Initially, occasionally, and semiannually.

Total estimated burden: 122,000 hours (per year). Burden is defined at 5 CFR 1320.3(b).

Total estimated cost: $14,700,000 (per year), which includes $831,000 in annualized capital/startup and/or operation & maintenance costs.

Changes in the Estimates: There is decrease in the total estimated respondent burden compared with the ICR currently approved by OMB. This ICR includes a more accurate estimate of the number of new respondents based on EPA's recent consultations with industry trade groups, which indicated that one new facility will start up in the third year of this information collection, in addition to the one new respondent per year that is an existing facility constructing new process units. This ICR also updates the burden associated with the October 11, 2017 RTR amendments, including removing first-year costs associated with the amendments, and accounting for the remaining one-time burden for facilities that applies through October 2020.

Courtney Kerwin,
Director, Regulatory Support Division.

[FR Doc. 2018-23648 Filed 10-29-18; 8:45 am]

BILLING CODE 6560-50-P